ENVIRONMENTAL PROTECTION AGENCY

[OAR-2005-0135; FRL-7980-9]

Agency Information Collection Activities; Submission to OMB for Review and Approval; Comment Request; Recordkeeping and Reporting for the Performance-Based Qualification of Test Methods for Diesel Fuel (Renewal), EPA ICR Number 2180.02, OMB Control Number 2060-0566

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing, approved “emergency” collection. This ICR is scheduled to expire on September 30, 2005. Under OMB regulations, the Agency may continue to conduct or sponsor the collection of information while this submission is pending at OMB. This ICR describes the nature of the information collection and its estimated burden and cost.

DATES: Additional comments may be submitted on or before November 4, 2005.

ADDRESSES: Submit your comments, referencing docket ID number OAR-2005-0135, to (1) EPA online using EDOCKET (our preferred method), by e-mail to a-and-r-docket@epa.gov, or by mail to: Environmental Protection Agency, EPA Docket Center (EPA/DC), EPA West, Room B102, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Anne Pastorkovich, Attorney/Advisor, Environmental Protection Agency, 1200 Pennsylvania Avenue, NW., Washington, DC 20460; telephone number: 202-343-9623, fax number: 202-343-2901; e-mail address: pastorkovich.anne-marie@epa.gov.

SUPPLEMENTARY INFORMATION: EPA has submitted the following ICR to OMB for review and approval according to the procedures prescribed in 5 CFR 1320.12. On July 13, 2005 (70 FR 40327), EPA sought comments on this ICR pursuant to 5 CFR 1320.8(d). EPA received no comments on the notice.

EPA has established a public docket for this ICR under Docket ID No. OAR-2005-0135 which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Recordkeeping and Reporting for the Performance-Based Qualification of Test Methods for Diesel Fuel (Renewal).

Abstract: With this information collection request (ICR), we are seeking permission to continue to collect applications from refiners, importers, and independent laboratories in order to permit them to use performance-based test methods for measuring sulfur in diesel fuel and detecting the presence of a marker in diesel sold as heating oil.

In the past, we would set up a designated test method for measuring compliance with various fuel parameters. Typically, this test method was an American Society for Testing and Materials (ASTM) procedure that our laboratory used. Regulated parties would have to use the same method. In certain circumstances, alternative test methods were named. If a regulated party used an alternative test method, all results would have to be correlated to the designated test method. Simply put, the party would have to develop and apply a correlation equation to all test method. Simply put, the party would have to develop and apply a correlation equal to all its results to bring them in line with the designated test method.

The recent regulations for nonroad diesel fuel incorporated a performance-based test method approach. See “Air Pollution Control; New Motor Vehicles and Engines: Nonroad Diesel Engines and Fuel; Emissions Standards,” 69 FR 38957 (June 29, 2004). This approach sets up accuracy and precision criteria, but permits regulated parties to qualify their laboratories to use their own test methods. Industry supports this approach and welcomes it as a first step to a more comprehensive performance-based approach to test method issues. In order to be qualified to use a test method, a refiner's or importer's laboratory or an independent laboratory will have to submit certain information to us. Unfortunately, these reporting provisions were not included in the information collection request for the nonroad diesel final rule. The first day by which regulated parties may comply was December 27, 2004 and many were waiting to submit applications, so an emergency ICR request was submitted to OMB, to permit EPA to accept applications through September 30, 2005. This notice announces a proposed information request that would permit us to continue to accept applications after that date.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 180 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities (listed with SIC Code/2002 NAICS Code): Refiners (2911/324110), importers (5172/424720) and laboratories (8734/541380).

Estimated Number of Respondents: 225.

Frequency of Response: On occasion.

Estimated Total Annual Hour Burden: 46,500.

Estimated Total Annual Cost: $3,023,000, which includes $0 annualized capital/startup costs, $0 O&M costs, and $3,023,000 annual labor costs.

Changes in the Estimates: There is no change in the total estimated burden currently identified in the OMB Inventory of Approved ICR Burdens.

Dated: September 27, 2005.
Oscar Morales,
Director, Collection Strategies Division.

[FR Doc. 05-20004 Filed 10-4-05; 8:45 am]

BILLING CODE 6560-50-P